FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 28, 2019.

A. Federal Reserve Bank of Minneapolis (Mark A. Rauzi, Vice President), 90 Hennepin Avenue, Minneapolis, Minnesota 55480-0291:

1. Stephen K. Hayes, Presho, South Dakota, individually and as trustee of the Margery I. Hayes Trust, Fort Pierre, South Dakota and Stephen K. Hayes, Margery I. Hayes Trust, Mary A. Dott, Sioux Falls, South Dakota, and JoAnne M. Wingert, Benton City, Washington, as a group acting in concert; to retain voting shares of Draper Holding Company, Inc., Fort Pierre, South Dakota, and thereby indirectly retain shares of Dakota Prairie Bank, Fort Pierre, South Dakota.

Board of Governors of the Federal Reserve System, May 6, 2019.
Yao-Chin Chao,
Assistant Secretary of the Board.

[FR Doc. 2019-09563 Filed 5-8-19; 8:45 am]

BILLING CODE P